DEPARTMENT OF JUSTICE

Antitrust Division

Notice Pursuant to the National Cooperative Research and Production Act of 1993—Optical Internetworking Forum

Notice is hereby given that, on September 22, 2004, pursuant to section 6(a) of the National Cooperative Research and Production Act of 1993, 15 U.S.C. 4301 et seq. (“the Act”), Optical Internetworking Forum (“OIF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Optical Internetworking Forum, Fremont, CA. The nature and scope of OIF's standards development activities are: (1) To support the rapid advancement of an efficient and compatible technology base that promotes a competitive marketplace; (2) to promote global development of optical internetworking technology; (3) to identify optical internetworking applications; (4) to provide educational services; (5) to promote worldwide compatibility and interoperability; (6) to encourage input to appropriate national and international standards bodies; (7) to identify, select, augment as appropriate, and publish optical internetworking implementation agreements drawn from appropriate national and international standards; and (8) to foster the development and deployment of interoperable products and services for data switching and routing using optical networking technologies.

Dorothy B. Fountain,
Deputy Director of Operations, Antitrust Division.

[FR Doc. 04-27546 Filed 12-15-04; 8:45 am]

BILLING CODE 4410-11-M